INTERNATIONAL TRADE COMMISSION

[Investigation No. DR-CAFTA-103-016]

Probable Economic Effect of Modifications to DR-CAFTA Rules of Origin and Tariffs for Certain Apparel Goods of Costa Rica and the Dominican Republic

AGENCY: United States International Trade Commission.

ACTION: Institution of investigation.

SUMMARY: Following receipt of a request on January 24, 2007, from the United States Trade Representative (USTR), the Commission instituted investigation No. DR-CAFTA-103-016, Probable Economic Effect of Modifications to DR-CAFTA Rules of Origin and Tariffs for Certain Apparel Goods of Costa Rica and the Dominican Republic, for the purpose of providing advice on the probable economic effect of the modification of the rules of origin and tariff treatment as reflected in the annex to the request.

DATES:

March 2, 2007: Deadline for filing written submissions.

May 24, 2007: Transmittal of Commission report to USTR.

ADDRESSES: All Commission offices, including the Commission's hearing rooms, are located in the United States International Trade Commission Building, 500 E Street SW., Washington, DC. All written submissions, including requests to appear at the hearing, statements, and briefs, should be addressed to the Secretary, United States International Trade Commission, 500 E Street SW., Washington, DC 20436. The public record for this investigation may be viewed on the Commission's electronic docket (EDIS) at http://edis.usitc.gov.

FOR FURTHER INFORMATION CONTACT: Project Leaders Laura Rodriguez, Office of Industries (202-205-3499; laura.rodriguez@usitc.gov or George Serletis, Office of Industries (202-205-3315; george.serletis@usitc.gov). For information on legal aspects, contact William Gearhart of the Office of the General Counsel (202-205-3091; william.gearhart@usitc.gov). The media should contact Margaret O'Laughlin, Office of External Relations (202-205-1819; margaret.olaughlin@usitc.gov). General information concerning the Commission may also be obtained by accessing its Internet server (http://www.usitc.gov). Hearing-impaired individuals may obtain information on this matter by contacting the Commission's TDD terminal on (202) 205-1810. Persons with mobility impairments who will need special assistance in gaining access to the Commission should contact the Office of the Secretary at 202-205-2000.

SUPPLEMENTARY INFORMATION: The USTR's letter states that the United States has recently signed letters of understanding with the Dominican Republic and Costa Rica concerning amendments to the Dominican Republic-Central America-United States Free Trade Agreement after the Agreement enters into force for those countries that would modify certain rules of origin in the Agreement as well as the tariff treatment of certain non-originating goods imported from parties to the agreement. Section 1634(b) of the Pension Protection Act of 2006 authorizes the President, subject to the layover requirements of section 104 of the Dominican Republic-Central America-United States Free Trade Agreement Implementation Act (19 U.S.C. 4014), to proclaim such modifications to the Harmonized Tariff Schedule of the United States as are necessary to implement amendments to the Agreement. One of the requirements set out in section 104 of the Act is that the President obtain advice regarding the proposed action from the Commission.

The Annex to the USTR's letter identified five modifications for which advice is requested. The list can be viewed at http://www.usitc.gov/edis.htm. As requested, the Commission will transmit its advice to the USTR by May 24, 2007, and will issue a public verison of its report shortly thereafter, with any confidential business information deleted.

Written Submissions: No public hearing is planned. However, interested parties are invited to submit written statements concerning the matters to be addressed by the Commission in its report on this investigation. Submissions should be addressed to the Secretary to the Commission. To be assured of consideration by the Commission, written statements related to the investigation should be submitted to the Commission at the earliest practical date but no later than 5:15 p.m. on March 2, 2007. All written submissions must conform with section 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize the filing of submissions with the Secretary by facsimile or electronic means, except to the extent permitted by section 201.8 of the rules (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR. The USTR has directed that the Commission, after transmitting its report, publish a public version of its report, with any confidential business information deleted. Accordingly, any confidential business information received by the Commission in this investigation and used in preparing the report will not be published in the public version of the report in a manner that would reveal the operations of the firm supplying the information.

Issued: February 9, 2007.
By order of the Commission.
Marilyn R. Abbott,
Secretary to the Commission.

[FR Doc. E7-2604 Filed 2-14-07; 8:45 am]

BILLING CODE 7020-02-P